DEPARTMENT OF HOUSING AND URBAN DEVELOPMENT

[Docket No. FR-5383-N-18]

Notice of Proposed Information Collection for Public Comment; Notice of Proposed Information Collection for Public Comment; Public Housing Capital Fund

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 8, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-5564 (this is not a toll-free number), or e-mail Mr. McKinney at Leroy.McKinneyJr@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., Room 4116, Washington, DC 20410; telephone 202-402-4109 (this is not a toll-free number). Additional information is provided at http://www.hud.gov/offices/pih/programs/ph/cn/docs/2010-pre-notice.pdf.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Public Housing Capital Fund Program.

OMB Control Number: 2577-0157.

Description of the need for the information and proposed use: Public Housing Agencies (PHAs) must provide information to HUD various stages of implementing Capital Fund grant. This grant is used for modernization of existing public housing stock and development of new units, which requires contract administration and construction contracting.

Agency form numbers: HUD-5084, HUD-5087, HUD-51000, HUD-51001, HUD-51002, HUD-51003, HUD-51004, HUD-51915, HUD-51915-A, HUD-51971-I-II, HUD-52396, HUD-52427, HUD-52482, HUD-52483-A, HUD-52484, HUD-52485, HUD-52651-A, HUD-52829, HUD-52830, HUD-52833, HUD-52845, HUD-52846, HUD-52847, HUD-52849, HUD-53001, HUD-53015, HUD-5370, HUD-5370EZ, HUD-5370C, HUD-5372, HUD-5378, HUD-5460, Public Housing Information Center Certification of Accuracy, New Physical Needs Assessment form.

Members of affected public: Business or other for-profit, State, Local Government.

Estimation of the total number of hours needed to prepare the information collection including number of respondents: The estimated number of respondents is 3,100, with a total reporting burden of 264,067 hours.

Frequency of submission: Annually.

Members of affected public: Local governments, public housing authorities, nonprofits, and for-project developers that apply jointly with a public entity.

Status of the proposed information collection: Revision of approved collection.

Authority: Section 3506 of the Paperwork Reduction Act of 1995, 44 U.S.C. Chapter 35, as amended.

Dated: August 27, 2010.
Merrie Nichols-Dixon,
Acting Deputy Assistant Secretary for Policy, Programs, and Legislative Initiatives.

[FR Doc. 2010-22139 Filed 9-3-10; 8:45 am]

BILLING CODE 4210-67-P